DEPARTMENT OF HOMELAND SECURITY

U.S. Citizenship and Immigration Services

[CIS No. 2445-08; DHS Docket No. USCIS-2008-0004]

RIN 1615-ZA68

Submission of Revised Form I-821, Application for Temporary Protected Status

AGENCY: U.S. Citizenship and Immigration Services (USCIS), DHS.

ACTION: Notice.

SUMMARY: This Notice announces that effective June 27, 2008 only Form I-821, Application for Temporary Protected Status with a revision date of October 17, 2007, will be accepted for filing applications for Temporary Protected Status (TPS). The Form I-821, with the October 17, 2007, revision date can be found on the USCIS Web site at http://www.uscis.gov. Accordingly, beginning on June 27, 2008, if you are a national of a country currently designated for Temporary Protected Status (TPS) (or an alien with no nationality who last habitually resided in a country currently designated for TPS), you must submit your application for initial registration or re-registration using the Form I-821 with the October 17, 2007, revision date. Individuals who have already filed for the most recent TPS registration or re-registration periods effective for their specific countries do not need to submit this revised Form I-821 until the next re-registration period for their country's TPS designation.

DATES: This Notice is effective June 27, 2008. After June 27, 2008, only Form I-821 with the October 17, 2007, revision date will be accepted by USCIS.

FOR FURTHER INFORMATION CONTACT: Shelly Sweeney, Status and Family Branch, Office of Service Center Operations, U.S. Citizenship and Immigration Services, Department of Homeland Security, 20 Massachusetts Avenue, NW., 2nd Floor, Washington, DC 20529, telephone (202) 272-1533. This is not a toll-free call.

Note: The phone number provided here is solely for questions regarding this notice and the information contained herein. It is not for individual case status inquiries. Applicants seeking information about the status of their individual case can check Case Status Online available on the USCIS Web site at http://www.uscis.gov, or applicants may call the USCIS National Customer Service Center at 1-800-375-5283 (TTY 1-800-767-1833).

SUPPLEMENTARY INFORMATION:

What is Form I-821?

Form I-821 is an application used by aliens to apply for TPS for the first time, as well as by aliens applying to re-register for TPS. The current version of Form I-821 can be found at http://www.uscis.gov.

What version of the Form I-821 will USCIS accept?

Any alien who files an initial application or re-registration application for TPS on or after June 27, 2008, must submit Form I-821 with the October 17, 2007, revision date.

Why will USCIS not accept prior versions of Form I-821?

The Form I-821 with the October 17, 2007, revision date contains additional questions regarding the applicant's eligibility for TPS that are not contained on the Form I-821 with prior revision dates. As such, previous versions of Form I-821 will no longer be accepted by USCIS.

What will happen if you file previous versions of Form I-821?

Beginning on June 27, 2008, USCIS will no longer accept any versions of Form I-821 dated prior to the October 17, 2007, revision date. TPS applications received containing previous versions of Form I-821 will be rejected and returned to the applicant, with accompanying fees for resubmission with the proper version of Form I-821.

Where should you file the revised Form I-821?

For filing instructions, refer to the most recently published Federal Register notice for the specific country designation under which you are applying. You may also check the USCIS Web site at http://www.uscis.gov or contact the USCIS National Customer Service Center at 1-800-375-5283.

Can I electronically file the revised form I-821?

If you are filing for re-registration during the re-registration period for your country and do not need to submit supporting documentation with your application, you may file your application electronically. To file your application electronically, follow the directions on the USCIS Web site at http://www.uscis.gov. You may not file your application electronically if you are filing for TPS for the first time.

Paperwork Reduction Act

The use of the revised Form I-821 has been approved by the Office of Management and Budget under the Paperwork Reduction Act. The OMB Control Number for this collection is 1615-0043.

Dated: May 9, 2008.
Jonathan R. Scharfen,
Acting Director, U.S. Citizenship and Immigration Services.

[FR Doc. E8-11816 Filed 5-27-08; 8:45 am]

BILLING CODE 9111-97-P